DEPARTMENT OF TRANSPORTATION

Pipeline and Hazardous Materials Safety Administration

49 CFR Parts 171, 172, 173, 174, and 178

[Docket No. PHMSA-06-25736 (HM-231)]

RIN 2137-AD89

Hazardous Materials: Miscellaneous Packaging Amendments; Correction

AGENCY: Pipeline and Hazardous Materials Safety Administration (PHMSA), DOT.

ACTION: Notice of proposed rulemaking (NPRM); correction.

SUMMARY: This document corrects the preamble to a notice of proposed rulemaking published in the Federal Register of September 1, 2006, regarding miscellaneous packaging amendments to the Hazardous Materials Regulations (HMR; 49 CFR parts 171-180). This document corrects mathematical calculations of the total annual respondents (from 5,000 to 5,010), and the total annual responses (from 15,000 to 15,500) for OMB Control No. 2137-0572, indicated under the “Paperwork Reduction Act” section of this rulemaking.

FOR FURTHER INFORMATION CONTACT: Arthur M. Pollack, 202-366-8553.

Correction

In proposed rule FR Doc. 06-7360, beginning on page 52017 in the issue of September 1, 2006, make the following correction in the Paperwork Reduction Act section. On page 52025 in the second column, remove the numerical term “5,000” and add the numerical term “5,010” in its place; and remove the numerical term “15,000” and add the numerical term “15,500” in its place.

Issued in Washington, DC on November 24, 2006.
Robert A. McGuire,
Associate Administrator for Hazardous Materials Safety.

[FR Doc. E6-20358 Filed 11-30-06; 8:45 am]

BILLING CODE 4910-60-P